DEPARTMENT OF ENERGY

Federal Energy Regulatory Commission

[Docket No. FA15-16-000]

Dominion Energy Transmission, Inc.; Notice of Paper Hearing Procedure

Take notice that on December 8, 2017, Dominion Energy Transmission, Inc. (Dominion) filed a request for Commission review of certain findings and recommendations in the November 8, 2017 audit report ¹ issued in this docket by the Director of the Office of Enforcement under authority delegated to him by section 375.311 of the Commission's regulations (Audit Report).² In accordance with section 158.3 of the Commission's regulations,³ Dominion notified the Commission that it requested review of contested issues by means of a shortened procedure. Pursuant to section 158.3, we direct the commencement of a paper hearing.

¹ Audit of Dominion Energy Transmission, Inc.'s compliance with its FERC Gas Tariff; the accounting requirements of the Uniform System of Accounts Prescribed for Natural Gas Companies; and the reporting requirements of the FERC Form No. 2, Annual Report, Commission Office of Enforcement Division of Audits and Accounting (filed Nov. 8, 2017) (Audit Report).

² 18 CFR 375.311 (2017).

³ 18 CFR 158.3 (2017).

The Audit Report summarizes Enforcement's review, first announced in this docket on April 15, 2015, of Dominion's compliance with the Uniform System of Accounts, the reporting requirements of the FERC Form No. 2, and Dominion's own gas tariff. The Audit Report states that, while Dominion agreed not to contest certain of Enforcement's findings and recommendations in the report, it does contest the Audit Report's findings and recommendations pertaining to the Allowance for Funds Used During Construction (AFUDC). The scope of the paper hearing is limited to these challenged findings and recommendations.

In accordance with section 158.3, Dominion and any other interested entity, including the Commission staff, shall file, within 45 days of this notice, an initial memorandum that addresses the relevant facts and applicable law that support the position or positions taken regarding the matters at issue. Reply memoranda may be filed by participants who filed initial memoranda. Reply memoranda must be filed within 20 days of the due date for initial memoranda. Pursuant to section 158.3, subpart T of Part 385 of the Commission's regulations shall apply to all filings. Further, pursuant to section 158.4, each entity's memorandum should set out the facts and argument as prescribed for briefs in Rule 706 of the Commission's Rules of Practice and Procedure.⁴ Section 158.5 also requires that the facts stated in the memorandum must be sworn to by persons having knowledge thereof, which latter fact must affirmatively appear in the affidavit.⁵

⁴ 18 CFR 158.4 (2017) (citing 18 CFR 385.706 (2017)).

⁵ 18 CFR 158.5 (2017).

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2018.
Kimberly D. Bose,
Secretary.

[FR Doc. 2018-01504 Filed 1-25-18; 8:45 am]

BILLING CODE 6717-01-P